DEPARTMENT OF COMMERCE

National Oceanic and Atmospheric Administration

[RTID 0648-XD232]

Request for Information; Data for Marine Spatial Studies in Puerto Rico and the U.S. Virgin Islands

AGENCY: National Marine Fisheries Service (NMFS), National Ocean Service (NOS), National Oceanic and Atmospheric Administration (NOAA), Commerce.

ACTION: Notice; request for information.

SUMMARY: NOAA's National Ocean Service (NOS), National Centers for Coastal Ocean Science (NCCOS) in partnership with the NOAA National Marine Fisheries Service (NMFS), Southeast Fisheries Science Center (SEFSC) and Southeast Regional Office (SERO), hereafter NOAA, are working to build spatial science capacity in the U.S. Caribbean Region. Through this Request for Information, we are seeking public input to identify coastal and marine spatial data or other critical information to inform marine spatial analyses. Additionally, we are seeking feedback on data shortcomings and gaps that should be addressed prior to commencing marine spatial studies. The input we receive from meetings, as well as the responses to the items listed in the SUPPLEMENTARY INFORMATION section of this document, will be used to inform potential coastal and ocean development activities in Puerto Rico and the U.S. Virgin Islands (USVI), such as development of renewable energy facilities, aquaculture, and other blue economy sectors.

DATES: Interested persons are invited to provide input in response to this Request for Information through September 30, 2023. Late-filed input will be considered to the extent practicable.

Verbal input will be accepted during two public meetings to be held in St. Croix, USVI on August 28-29 and in San Juan, Puerto Rico on August 31-September 1.

ADDRESSES: Interested persons are invited to provide input using one of the following methods:

Electronic Submission: Submit electronic written public comments via the Federal e-Rulemaking Portal. Go to https://www.regulations.gov and enter NOAA-NMFS-2023-0097 in the Search box. Click on the “Comment” icon, complete the required fields, and enter or attach your comments. All comments received are a part of the public record and will generally be posted for public viewing on https://www.regulations.gov without change. All personal identifying information (e.g., name, address, etc.), confidential business information, or otherwise sensitive information submitted voluntarily by the sender will be publicly accessible. NOAA will accept anonymous comments (enter “N/A” in the required fields if you wish to remain anonymous).

Verbal submission: NOAA will accept verbal input at two meetings. The first meeting will be held at The Buccaneer Resort in St. Croix, USVI on Monday August 28, 2023 from 8:30am to 5:00pm (AST) and Tuesday, August 29, 2023 from 8:30am to 12:00pm (AST). There will be a registration window from 8:30am to 9:00am (AST) each day before the start of the meeting. The second meeting will be held at the Courtyard Marriott Isla Verde Beach Resort in San Juan, Puerto Rico on Thursday, August 31, 2023 from 8:30am to 5:00pm (AST) and Friday, September 1, 2023 from 8:30am to 12:00pm (AST). There will be a registration window from 8:30am to 9:00am (AST) each day before the start of the meeting. Simultaneous language interpretation in English and Spanish will be provided in the Puerto Rico meetings. Advanced registration is requested for the meetings by completing the registration form at https://docs.google.com/forms/d/e/1FAIpQLSf1B1QOXhd7EJEDflyok-ATW4ZGLHRloJLSzcntmopDjhd86A/viewform?usp=sf link or by providing an RSVP to Erica Rule at erica.rule@noaa.gov. The registration deadline is Monday, August 21, 2023.

Reports of meeting results will also be published and made available to the public in the weeks following the meetings. If you are unable to provide electronic written comments or participate in the meetings, please contact Jennifer Wright at jennifer.wright@noaa.gov or (252)418-1308 for alternative submission methods.

FOR FURTHER INFORMATION CONTACT: James Morris (james.morris@noaa.gov), (252)666-7433.

SUPPLEMENTARY INFORMATION:

Background

NOAA is an agency of the United States Federal government that works to conserve and manage coastal and marine ecosystems and resources. We work to make fisheries sustainable and productive, provide safe seafood to consumers, conserve threatened and endangered species and other protected resources, and maintain healthy ecosystems. NOAA has jurisdiction and responsibility for its trust marine resources in the U.S. Caribbean as well as significant interest in supporting the resilience of coastal and marine-dependent communities in the Territories, and promoting equity and environmental justice. For these reasons, is it important for NOAA to invest in research that informs marine spatial studies in the Caribbean region, including socioeconomic research that ensures meaningful participation of Caribbean communities and supports equitable processes for planning and siting of new and existing marine industries and conservation areas.

NOAA has recently been involved in planning for the expansion of offshore aquaculture in U.S. Federal waters through the development of Aquaculture Opportunity Areas (https://www.fisheries.noaa.gov/national/aquaculture/aquaculture-opportunity-areas). NOAA has also been engaged with the Bureau of Ocean Energy Management (BOEM) to support siting and environmental review for offshore wind energy areas in U.S. Federal waters (https://www.boem.gov/renewable-energy) to ensure protection of trust resources in any offshore development activities.

Purpose of This Request for Information

The purpose of this Request for Information is to promote data development to inform marine spatial studies in Puerto Rico and the USVI, with an emphasis on data needs for offshore wind energy and aquaculture development. In addition to input received from the public through the electronic and verbal submissions, NOAA aims to inform the public about its coastal and ocean planning processes and capabilities, discuss the current data available for each ocean sector (e.g., military, fisheries, industry, natural resources), and gather ideas for other data sources. NOAA hopes to come out of the meetings with a strengthened relationship with the public and a list of data gaps and needs to pursue going forward.

Specific Information Requested To Inform Marine Spatial Studies in Puerto Rico and USVI

Through this Request for Information, NOAA seeks written public input to inform the marine spatial studies in Puerto Rico and USVI. NOAA is particularly interested in receiving input concerning the items listed below. Responses to this Request for Information are voluntary, and respondents need not reply to items listed. When providing input, please specify if you are providing general feedback on marine spatial studies and/or if you are responding to one of the specific item number(s) below:

(1) Specific datasets related to ocean sectors, natural resources, and/or human activities you recommend NOAA use in marine spatial studies.

(2) Major concerns you have related to use of any specific datasets that may be used in marine spatial studies.

(3) Major concerns you have related to the impacts of new marine industries on ecological systems in Puerto Rico and/or the USVI.

(4) Major concerns you have related to the impact of new marine industries on other ocean industries in Puerto Rico and/or the USVI.

(5) Major concerns you have related to gaps in scientific knowledge or data that could impact marine spatial study efforts.

(6) Specific data or information you recommend NOAA or other partners collect, if it is not currently available or has not been previously collected.

(7) Ways in which NOAA can better engage and collaborate with the public and Territorial communities to promote economic, social, and ecological resilience as well as protect trust resources.

Dated: August 4, 2023.
Samuel D Rauch, III,
Deputy Assistant Administrator for Regulatory Programs, National Marine Fisheries Service.

[FR Doc. 2023-17119 Filed 8-9-23; 8:45 am]

BILLING CODE 3510-22-P